DEPARTMENT OF ENERGY

Federal Energy Regulatory Commission

[National Fuel Gas Supply Corporation; Docket No. RP99-484-001]

Notice of Compliance Filing

January 18, 2000.

Take notice that on November 12, 1999, National Fuel Gas Supply Corporation (National Fuel) tendered for filing Amendment No. 3 to the transportation service agreement filed on August 26, 1999, in the above-referenced proceeding.

National Fuel states that the filing is being made in compliance with the Letter Order issued by the Commission on October 27, 1999. The order directed National Fuel to revise and refile its non-conforming service agreement for transportation service with ProGas U.S.A., Inc., to reflect the elimination of certain language found in the second footnote of Exhibit 1.

National Fuel states that in compliance with that directive, National Fuel submits Amendment No. 3 which replaces Exhibit 1 to the service agreement.

National Fuel states that copies of the filing are being mailed to all of National Fuel's customers, parties on the official service list compiled by the Secretary and interested state commissions.

Any person desiring to protest said filing should file a protest with the Federal Energy Regulatory Commission, 888 First Street, NE., Washington, DC 20426, in accordance with Section 385.211 of the Commission's Rules and Regulations. All such protests must be filed on or before January 25, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-1583 Filed 1-21-00; 8:45 am]

BILLING CODE 6717-01-M